DEPARTMENT OF ENERGY

Federal Energy Regulatory Commission

Combined Notice of Filings #1

January 3, 2011.

Take notice that the Commission received the following electric rate filings:

Docket Numbers: ER96-496-019; ER99-3658-005.

Applicants: Northeast Utilities Service Company, Select Energy, Inc.

Description: Request of Northeast Utilities Service Company, et al.

Filed Date: 12/30/2010.

Accession Number: 20101230-5257.

Comment Date: 5 p.m. Eastern Time on Monday, February 28, 2011.

Docket Numbers: ER00-2885-035; ER01-2765-034; ER02-2102-034; ER03-1283-026; ER05-1232-033; ER07-1112-016; ER07-1116-015; ER09-1141-014.

Applicants: J.P. Morgan Ventures Energy Corporation, J.P. Morgan Commodities Canada Corporation, BE Allegheny LLC, Cedar Brakes I, L.L.C., Cedar Brakes II, L.L.C.,BE Ironwood LLC, Utility Contract Funding, L.L.C., Vineland Energy LLC.

Description: Notice of Non-Material Change In Status of J.P. Morgan Ventures Energy Corporation et al.

Filed Date: 01/03/2011.

Accession Number: 20110103-5114.

Comment Date: 5 p.m. Eastern Time on Friday, March 04, 2011.

Docket Numbers: ER09-1549-003; ER09-172-007; ER09-173-007; ER09-174-006; ER10-426-004; ER11-2201-001; ER06-1355-007.

Applicants: Evergreen Wind Power, LLC, Canandaigua Power Partners LLC, Evergreen Wind Power V, LLC, Canandaigua Power Partners II, LLC, Evergreen Wind Power III, LLC, Stetson Wind II, LLC, First Wind Energy Marketing, LLC.

Description: Triennial Market-Based Rate Update Filing of First Wind Energy Marketing, LLC, et al.

Filed Date: 12/30/2010.

Accession Number: 20101230-5255.

Comment Date: 5 p.m. Eastern Time on Monday, February 28, 2011.

Docket Numbers: ER10-1597-001; ER10-1620-001; ER10-1624-001; ER10-1625-001; ER10-1626-001.

Applicants: Tenaska Alabama II Partners, L.P., Tenaska Georgia Partners, L.P., Kiowa Power Partners, L.L.C., Tenaska Virginia Partners, L.P., Tenaska Gateway Partners Ltd.

Description: Notification of Change in Status of Kiowa Power Partners, L.L.C., et al.

Filed Date: 01/03/2011.

Accession Number: 20110103-5163.

Comment Date: 5 p.m. Eastern Time on Monday, January 24, 2011.

Docket Numbers: ER10-2216-001.

Applicants: Entergy Arkansas, Inc.

Description: Entergy Arkansas, Inc. submits tariff filing per 35: OATT Baseline Resubmission Due to Collation Issue to be effective 7/9/2010.

Filed Date: 01/03/2011.

Accession Number: 20110103-5004.

Comment Date: 5 p.m. Eastern Time on Monday, January 24, 2011.

Docket Numbers: ER11-2040-001.

Applicants: Schuylkill Energy Resources, Inc.

Description: Schuylkill Energy Resources, Inc. submits tariff filing per 35.17(b): MBRA Tariff to be effective 11/8/2010.

Filed Date: 01/03/2011.

Accession Number: 20110103-5007.

Comment Date: 5 p.m. Eastern Time on Monday, January 24, 2011.

Docket Numbers: ER11-2112-002; ER11-2482-001; ER11-2483-001; ER11-2484-001; ER11-2485-001; ER11-2486-001; ER11-2487-001; ER11-2488-001; ER11-2507-001; ER11-2509-001; ER11-2512-001; ER11-2514-001; ER11-2516-001; ER11-2536-001; ER11-2563-001; ER11-2563-001; ER11-2564-001; ER10-2822-002; ER11-2507-001; ER10-2952-001; ER10-2955-001; ER10-2994-003.

Applicants: New York State Electric & Gas Corp., Rochester Gas & Electric Corporation, Central Maine Power Company, Flat Rock Windpower LLC, Flat Rock Windpower II LLC, Providence Heights Wind, LLC, Locust Ridge Wind Farm, LLC, Lempster Wind, LLC, Hartford Steam Company, Carthage Energy, LLC, PEI Power II, LLC, Energetix, Inc., Atlantic Renewable Projects II LLC, Casselman Windpower LLC, Locust Ridge Wind Farm II, LLC, Hardscrabble Wind Power LLC, NYSEG Solutions, Inc., Iberdrola Renewables, Inc., Streator-Cayuga Ridge Wind Power LLC, Blue Creek Wind Farm LLC.

Description: Iberdrola Northeast MBR Sellers submit their Triennial Market Power Analysis.

Filed Date: 12/30/2010.

Accession Number: 20101230-5170.

Comment Date: 5 p.m. Eastern Time on Monday, February 28, 2011.

Docket Numbers: ER11-2342-000.

Applicants: AEE2, L.L.C.

Description: AEE2, L.L.C. submits tariff filing per 35.13(a)(2)(iii: Rate Schedule No. 1 (Lease Agreement with AES ES Westover) to be effective 12/31/2010.

Filed Date: 12/13/2010.

Accession Number: 20101213-5000.

Comment Date: 5 p.m. Eastern Time on Monday, January 10, 2011.

Docket Numbers: ER11-2549-001; ER11-2552-001; ER11-2554-001; ER11-2555-001; ER11-2556-001; ER11-2557-001; ER11-2558-001.

Applicants: Granite State Electric Co; Massachusetts Electric Company; The Narragansett Electric Company; Keyspan Glenwood Energy Center LLC; National Grid Port Jefferson; New England Power Company; Niagara Mohawk Power Corporation.

Description: National Grid USA submits the Triennial Market Power Analysis Filing.

Filed Date: 12/30/2010.

Accession Number: 20110103-0202.

Comment Date: 5 p.m. Eastern Time on Monday, February 28, 2011.

Docket Numbers: ER11-2582-000.

Applicants: PacifiCorp.

Description: PacifiCorp submits tariff filing per 35.13(a)(2)(iii: Bountiful City Parrish Sub Expansion Construction Agreement to be effective 12/31/2010.

Filed Date: 12/30/2010.

Accession Number: 20101230-5179.

Comment Date: 5 p.m. Eastern Time on Thursday, January 20, 2011.

Docket Numbers: ER11-2583-000.

Applicants: Entergy Power Ventures, L.P.

Description: Entergy Power Ventures, L.P. submits tariff filing per 35.15: Cancellation of EPV Market-Based Rate Tariff to be effective 1/1/2011.

Filed Date: 12/30/2010.

Accession Number: 20101230-5188.

Comment Date: 5 p.m. Eastern Time on Thursday, January 20, 2011.

Docket Numbers: ER11-2584-000.

Applicants: Florida Power Corporation.

Description: Florida Power Corporation submits tariff filing per 35.13(a)(2)(iii: Amendment of OATT Formula Rate of Florida Power Corporation to be effective 7/14/2010.

Filed Date: 12/30/2010.

Accession Number: 20101230-5189.

Comment Date: 5 p.m. Eastern Time on Thursday, January 20, 2011.

Docket Numbers: ER11-2585-000.

Applicants: Genon Power Midwest, LP.

Description: Genon Power Midwest, LP submits tariff filing per 35.1: Notice of Succession—Reactive Service Rate Schedule to be effective 12/3/2010.

Filed Date: 12/30/2010.

Accession Number: 20101230-5190.

Comment Date: 5 p.m. Eastern Time on Thursday, January 20, 2011.

Docket Numbers: ER11-2586-000.

Applicants: Duke Energy Carolinas, LLC.

Description: Duke Energy Carolinas, LLC submits tariff filing per 35: Order No. 676 Compliance Filing to be effective 4/1/2011.

Filed Date: 12/30/2010.

Accession Number: 20101230-5195.

Comment Date: 5 p.m. Eastern Time on Thursday, January 20, 2011.

Docket Numbers: ER11-2587-000.

Applicants: J. Aron & Company.

Description: J. Aron & Company submits tariff filing per 35.13(a)(2)(iii: Updated Market Power Analysis to be effective 2/28/2011.

Filed Date: 12/30/2010.

Accession Number: 20101230-5196.

Comment Date: 5 p.m. Eastern Time on Thursday, January 20, 2011.

Docket Numbers: ER11-2588-000.

Applicants: Power Receivable Finance, LLC.

Description: Power Receivable Finance, LLC submits tariff filing per 35.13(a)(2)(iii: Category Seller Request to be effective 2/28/2011.

Filed Date: 12/30/2010.

Accession Number: 20101230-5209.

Comment Date: 5 p.m. Eastern Time on Thursday, January 20, 2011.

Docket Numbers: ER11-2589-000.

Applicants: Evraz Claymont Steel, Inc.

Description: Evraz Claymont Steel, Inc. submits tariff filing per 35.12: MBRA Tariff to be effective 2/23/2011.

Filed Date: 01/03/2011.

Accession Number: 20110103-5012.

Comment Date: 5 p.m. Eastern Time on Monday, January 24, 2011.

Docket Numbers: ER11-2591-000.

Applicants: Deseret Generation & Transmission Co-op.

Description: Application of Deseret Generation & Transmission Co-operative, Inc.

Filed Date: 12/30/2010.

Accession Number: 20101230-5254.

Comment Date: 5 p.m. Eastern Time on Thursday, January 20, 2011.

Docket Numbers: ER11-2592-000.

Applicants: Pacific Gas and Electric Company.

Description: Request of Pacific Gas and Electric Company for Temporary Waiver of Certain CAISO Tariff Provisions.

Filed Date: 01/03/2011.

Accession Number: 20110103-5110.

Comment Date: 5 p.m. Eastern Time on Monday, January 24, 2011.

Docket Numbers: ER11-2593-000.

Applicants: Portland General Electric Company.

Description: Portland General Electric Company submits tariff filing per 35: Compliance Filing for Order No. 676-E to be effective 4/1/2011.

Filed Date: 01/03/2011.

Accession Number: 20110103-5132.

Comment Date: 5 p.m. Eastern Time on Monday, January 24, 2011.

Docket Numbers: ER11-2594-000.

Applicants: Schedule 20a Service Providers.

Description: Schedule 20A Service Providers Waiver Request of North American Energy Standards Board WEQ Standard 004 (Version 002.1).

Filed Date: 01/03/2011.

Accession Number: 20110103-5162.

Comment Date: 5 p.m. Eastern Time on Monday, January 24, 2011.

Docket Numbers: ER11-2595-000.

Applicants: CalPeak Power—Border LLC.

Description: CalPeak Power—Border LLC submits tariff filing per 35.13(a)(2)(iii: CalPeak Border—Amendment to MBR Tariff—Seller Category Changes to be effective 3/4/2011.

Filed Date: 01/03/2011.

Accession Number: 20110103-5167.

Comment Date: 5 p.m. Eastern Time on Monday, January 24, 2011.

Docket Numbers: ER11-2596-000.

Applicants: CalPeak Power—El Cajon LLC.

Description: CalPeak Power—El Cajon LLC submits tariff filing per 35.13(a)(2)(iii: CalPeak El Cajon—Amendment to MBR Tariff—Seller Category Changes to be effective 3/4/2011.

Filed Date: 01/03/2011.

Accession Number: 20110103-5169.

Comment Date: 5 p.m. Eastern Time on Monday, January 24, 2011.

Docket Numbers: ER11-2597-000.

Applicants: CalPeak Power—Panoche LLC.

Description: CalPeak Power—Panoche LLC submits tariff filing per 35.13(a)(2)(iii: CalPeak Panoche—Amendment to MBR Tariff—Seller Category Changes to be effective 3/4/2011.

Filed Date: 01/03/2011.

Accession Number: 20110103-5173.

Comment Date: 5 p.m. Eastern Time on Monday, January 24, 2011.

Docket Numbers: ER11-2598-000.

Applicants: Gateway Energy Services Corporation.

Description: Gateway Energy Services Corporation submits tariff filing per 35.37: Gateway Energy Services Corporation Tariff Revision Regarding Seller Category to be effective 3/4/2011.

Filed Date: 01/03/2011.

Accession Number: 20110103-5176.

Comment Date: 5 p.m. Eastern Time on Monday, January 24, 2011.

Docket Numbers: ER11-2599-000.

Applicants: BIV Generation Company, L.L.C.

Description: BIV Generation Company, L.L.C. submits tariff filing per 35.13(a)(2)(iii: Revised MBR Tariff to be effective 3/4/2011.

Filed Date: 01/03/2011.

Accession Number: 20110103-5177.

Comment Date: 5 p.m. Eastern Time on Monday, January 24, 2011.

Docket Numbers: ER11-2600-000.

Applicants: CalPeak Power—Vaca Dixon LLC.

Description: CalPeak Power—Vaca Dixon LLC submits tariff filing per 35.13(a)(2)(iii: CalPeak Vaca Dixon—Amendment to MBR Tariff—Seller Category Changes to be effective 3/4/2011.

Filed Date: 01/03/2011.

Accession Number: 20110103-5178.

Comment Date: 5 p.m. Eastern Time on Monday, January 24, 2011.

Docket Numbers: ER11-2601-000.

Applicants: Arizona Public Service Company.

Description: Arizona Public Service Company submits tariff filing per 35.13(a)(2)(iii: Service Agreement No. 309 between APS and RE Ajo 1 LLC to be effective 12/2/2010.

Filed Date: 01/03/2011.

Accession Number: 20110103-5179.

Comment Date: 5 p.m. Eastern Time on Monday, January 24, 2011.

Docket Numbers: ER11-2602-000.

Applicants: CalPeak Power LLC.

Description: CalPeak Power LLC submits tariff filing per 35.13(a)(2)(iii) CalPeak—Amendment to MBR Tariff—Seller Category Changes to be effective 3/4/2011.

Filed Date: 01/03/2011.

Accession Number: 20110103-5180.

Comment Date: 5 p.m. Eastern Time on Monday, January 24, 2011.

Docket Numbers: ER11-2603-000.

Applicants: Colorado Power Partners.

Description: Colorado Power Partners submits tariff filing per 35.13(a)(2)(iii: Revised MBR Tariff to be effective 3/4/2011.

Filed Date: 01/03/2011.

Accession Number: 20110103-5181.

Comment Date: 5 p.m. Eastern Time on Monday, January 24, 2011.

Docket Numbers: ER11-2604-000.

Applicants: Commonwealth Chesapeake Company LLC.

Description: Commonwealth Chesapeake Company LLC submits tariff filing per 35.13(a)(2)(iii: Commonwealth Chesapeake—Amendment to MBR Tariff—Seller Category Changes to be effective 3/4/2011.

Filed Date: 01/03/2011.

Accession Number: 20110103-5182.

Comment Date: 5 p.m. Eastern Time on Monday, January 24, 2011.

Docket Numbers: ER11-2605-000.

Applicants: Tyr Energy LLC.

Description: Tyr Energy LLC submits tariff filing per 35.13(a)(2)(iii: Tyr—Amendment to MBR Tariff—Seller Category Changes to be effective 3/4/2011.

Filed Date: 01/03/2011.

Accession Number: 20110103-5183.

Comment Date: 5 p.m. Eastern Time on Monday, January 24, 2011.

Docket Numbers: ER11-2606-000.

Applicants: Rocky Mountain Power.

Description: Rocky Mountain Power submits tariff filing per 35.13(a)(2)(iii: Revised MBR Tariff to be effective 3/4/2011.

Filed Date: 01/03/2011.

Accession Number: 20110103-5184.

Comment Date: 5 p.m. Eastern Time on Monday, January 24, 2011.

Docket Numbers: ER11-2607-000.

Applicants: Sempra Energy Trading LLC.

Description: Sempra Energy Trading LLC submits tariff filing per 35.13(a)(2)(iii: Category Seller Request to be effective 3/4/2011.

Filed Date: 01/03/2011.

Accession Number: 20110103-5198.

Comment Date: 5 p.m. Eastern Time on Monday, January 24, 2011.

Docket Numbers: ER11-2608-000.

Applicants: CalPeak Power—Enterprise LLC.

Description: CalPeak Power—Enterprise LLC submits tariff filing per 35.13(a)(2)(iii: CalPeak Enterprise—Amendment to MBR Tariff—Seller Category Changes to be effective 3/4/2011.

Filed Date: 01/03/2011.

Accession Number: 20110103-5204.

Comment Date: 5 p.m. Eastern Time on Monday, January 24, 2011.

Take notice that the Commission received the following electric securities filings:

Docket Numbers: ES11-14-000.

Applicants: Southwest Power Pool, Inc.

Description: Application of Southwest Power Pool, Inc. under Section 204 of the Federal Power Act for an order authorizing the issuance of securities.

Filed Date: 12/30/2010.

Accession Number: 20101230-5253.

Comment Date: 5 p.m. Eastern Time on Thursday, January 20, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2011-183 Filed 1-7-11; 8:45 am]

BILLING CODE 6717-01-P